DEPARTMENT OF THE INTERIOR

National Park Service

[NPS-WASO-NAGPRA-NPS0028225; PPWOCRADN0-PCU00RP14.R50000]

Notice of Inventory Completion: University of Louisville, Louisville, KY

AGENCY: National Park Service, Interior.

ACTION: Notice.

SUMMARY: The University of Louisville has completed an inventory of human remains and associated funerary objects, in consultation with the appropriate Indian Tribes or Native Hawaiian organizations and has determined that there is no cultural affiliation between the human remains and associated funerary objects and any present-day Indian Tribes or Native Hawaiian organizations. Representatives of any Indian Tribe or Native Hawaiian organization not identified in this notice that wish to request transfer of control of these human remains and associated funerary objects should submit a written request to the University of Louisville. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the University of Louisville at the address in this notice by August 14, 2019.

ADDRESSES: Dr. Thomas Jennings, University of Louisville Department of Anthropology, Lutz Hall Room 228, Louisville, KY 40292, telephone (502) 852-2421, email thomas.jennings@louisville.edu.

SUPPLEMENTARY INFORMATION: Notice is here given in accordance with the Native American Graves Protection and Repatriation Act (NAGPRA), 25 U.S.C. 3003, of the completion of an inventory of human remains and associated funerary objects under the control of the University of Louisville, Louisville, KY. The human remains and associated funerary objects were removed from the Lawrence Site 15Tr33, Trigg County, KY.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the University of Louisville professional staff in consultation with representatives of the Cherokee Nation; Eastern Band of Cherokee Indians; The Chickasaw Nation; and the United Keetoowah Band of Cherokee Indians in Oklahoma.

History and Description of the Remains

In 1969, 1971, and 1972, human remains representing, at minimum, 16 individuals were removed from the Lawrence Site 15Tr33 in Trigg County, KY. The burial in Feature 7 (MNI = 1) is also named Burial #1. It was transferred to Florida Atlantic University (FAU) for osteological analysis between 1972 and 1973, and returned to University of Louisville (UofL) in March 2018. No known individuals were identified. No associated funerary objects are present.

The burial in Feature 45 (MNI = 1) is also named Burial #2. It was transferred to FAU between 1972 and 1973, and returned to UofL in March 2018. No known individuals were identified. No associated funerary objects are present.

The burial in Feature 47 (MNI = 1) is also named the Burial #3. It was transferred to FAU between 1972 and 1973, and returned in March 2018. No known individuals were identified. No associated funerary objects are present.

The burial in Feature 52 (MNI = 1) is also named Burial #5. Burial #5 remained at UofL after excavation. No known individuals were identified. The one associated funerary object is one lot of charcoal.

The burials in Feature 65 (MNI = 2) are also named Burial #6A and #6B. Both Burials #6A and #6B were transferred to FAU between 1972 and 1973, and returned to UofL in March 2018. Burial #6A includes one adult and Burial #6B includes one sub-adult. No known individuals were identified. No associated funerary objects are present.

The burial in Feature 67 (MNI = 1) is also named Burial #8. It was transferred to FAU between 1972 and 1973, and returned to UofL in March 2018. No known individuals were identified. The one associated funerary object is one lot of charcoal.

The burial in Feature 41 (MNI = 1) is also named Burial #7. It was transferred to FAU between 1972 and 1973, and returned to UofL in March 2018. No known individuals were identified. The one associated funerary object is one lot of lithics.

The burials in Feature 72 (MNI = 2) are also named Burial #9A and #9B. Burial #9A remained at UofL after excavation. Burial #9B remained at UofL after excavation except for some small fragments that were sent to FAU between 1972 and 1973, and returned to UofL in March 2018. No known individuals were identified. The five associated funerary objects associated with Burial #9A are two lots of animal teeth, one lot of stone tools, one lot of charcoal, and one lot of animal bone. The two associated funerary objects associated with Burial #9B are one lot of animal teeth and one lot of animal bones and red ochre.

The burial in Feature 46 (MNI = 1) is also named Burial #10. Burial #10 was transferred to FAU between 1972 and 1973, and returned to UofL in March 2018. No known individuals were identified. The two associated funerary objects associated with Burial #10 are one lot of stone flakes and one lot of ochre.

The burial in Feature 70 (MNI = 1) is also named Burial #11. Burial #11 was transferred to FAU between 1972 and 1973, and returned to UofL in March 2018. No known individuals were identified. The one associated funerary object associated with Burial #11 is one lot of stone tools.

Some confusion exists over Burial #12 (MNI = 1). In one notation, the burial in Feature #73 is also named Burial #12. Although this burial was described as non-recoverable in the excavation report, human remains returned to UofL from FAU in March 2018 included an individual labeled Burial #12 (MNI = 1) in good condition. No known individuals were identified. The one associated funerary object associated with Burial #12 is one lot of stone tools.

The burial in Feature 125 (MNI = 1) is also named Burial #14. Burial #14 remained at UofL after excavation. No known individuals were identified. No associated funerary objects are present.

The burial in Feature 87 (MNI = 1) is also named Burial #16. Burial #16 remained at UofL after excavation. No known individuals were identified. No associated funerary objects are present.

Other than the adult and sub-adult identified in Feature 65, no age or sex estimations were completed due to the condition of the human remains and the nature of the initial excavation project.

Determinations Made by the University of Louisville

Officials of the University of Louisville have determined that:

• Pursuant to 25 U.S.C. 3001(9), the human remains described in this notice are Native American based on radio-carbon dating, types of tools, and style of burial. The site was determined to have a primary occupation of approximately 8,500 years ago.

• Pursuant to 25 U.S.C. 3001(9), the human remains described in this notice represent the physical remains of 16 individuals of Native American ancestry.

• Pursuant to 25 U.S.C. 3001(3)(A), the 15 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Pursuant to 25 U.S.C. 3001 (15), the land from which the Native American human remains and associated funerary objects was not tribal land at the time of removal.

• According to final judgments of the Indian Claims Commission or the Court of Federal Claims, the land from which the Native American human remains and associated funerary objects were removed is the aboriginal land of The Chickasaw Nation.

• Treaties, Acts of Congress, or Executive Orders indicate that the land from which the Native American human remains and associated funerary objects were removed is the aboriginal land of the Cherokee Nation; Eastern Band of Cherokee Indians; The Chickasaw Nation; and the United Keetoowah Band of Cherokee Indians in Oklahoma (hereafter referred to as “The Tribes”).

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Dr. Thomas Jennings, University of Louisville Department of Anthropology, Lutz Hall 228, Louisville, KY 40292, telephone (502) 852-2421, email thomas.jennings@louisville.edu, by August 14, 2019. After that date, if no additional requestors have come forward, transfer of control of the human remains and associated funerary objects to The Tribes may proceed.

The University of Louisville is responsible for notifying The Tribes that this notice has been published.

Dated: June 14, 2019.
Melanie O'Brien,
Manager, National NAGPRA Program.

[FR Doc. 2019-14931 Filed 7-12-19; 8:45 am]

BILLING CODE 4312-52-P